DEPARTMENT OF HEALTH AND HUMAN SERVICES

Centers for Disease Control and Prevention

[30Day-20-1193]

Agency Forms Undergoing Paperwork Reduction Act Review

In accordance with the Paperwork Reduction Act of 1995, the Centers for Disease Control and Prevention (CDC) has submitted the information collection request titled Assessment of Technical Assistance and Training Approaches to Accelerate Comprehensive Cancer Control Outcomes to the Office of Management and Budget (OMB) for review and approval. CDC previously published a “Proposed Data Collection Submitted for Public Comment and Recommendations” notice on December 6, 2019 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies' estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment of Technical Assistance and Training Approaches to Accelerate Comprehensive Cancer Control Outcomes (OMB Control No. 0920-1193, Exp. 7/31/2019)—Reinstatement with Change—National Center for Chronic Disease Prevention and Health Promotion (NCCDPHP), Centers for Disease Control and Prevention (CDC).

Background and Brief Description

Cancer is the second leading cause of death in the United States, and health care costs for cancer care are expected to rise to $158 billion by 2020. Addressing this public health problem requires primary prevention, early detection and treatment, support for cancer survivors, and a reduction in health disparities. Providing support to state, tribal, territorial and local organizations to implement evidence-based strategies has the potential to impact population-level cancer outcomes and reduce the burden of cancer.

The Centers for Disease Control and Prevention's (CDC) National Comprehensive Cancer Control Program (NCCCP) has been a primary funder for state and community-based cancer control interventions since its inception in the late 1990s. The program supports states and communities in developing a comprehensive approach to cancer prevention and control that includes supporting an infrastructure for state, local, and population-based interventions and multi-sectoral partnerships and coalitions. Currently, NCCCP supports 66 cancer control program grantees including programs in all 50 states, the District of Columbia, and in a number of tribes, tribal organizations, and U.S. Associated Pacific Islands/territories.

In striving to build capacity and maximize the impact of CDC's funded programs, CDC has focused on developing and implementing innovative programs to enhance training and technical assistance (TTA) delivered to NCCCP awardees. CDC funds two awardees under a cooperative agreement—Provision of Technical Assistance and Training to Assure Comprehensive Cancer Control Outcomes (DP18-1805). DP18-1805 awardees are charged with developing and delivering high-quality TTA for NCCCP funded programs, coalition members, and partners focused on improving implementation of evidence-based strategies for cancer prevention and control. The TTA activities DP18-1805 awardees implement include (1) conduct of needs assessment, (2) develop framework for building CCC capacity, (3) coordinate and collaborate with existing partners, (4) develop a TTA plan, (5) implement a TTA plan and conduct performance monitoring and continuous quality improvement; and (6) conduct a comprehensive evaluation of TTA.

CDC proposes to conduct an assessment of DP18-1805 awardees to: (1) Document the nature of the TTA provided by DP18-1805 awardees and the extent to which the cooperative agreement was able to achieve planned short-term outcomes; and (2) identify the extent to which DP18-1805 TTA efforts contributed to NCCCP funded programs' achievement in program outcomes. There are no other data collection efforts currently underway to assess implementation or perceived effectiveness of TTA under DP18-1805.

This information collection request will involve two complementary data collection efforts: (1) Case studies of DP18-1805 awardees (consisting of interviews with DP18-1805 TTA provider program managers/directors, DP18-1805 TTA provider evaluators, and DP18-1805 TTA provider partners) and (2) a cross-sectional web-based survey administered to NCCCP program directors and staff, NCCCP coalition members, and NCCCP partners. The case studies will be used to explore how DP18-1805 awardees are implementing their respective cooperative agreements and administering TTA to NCCCP awardees; the factors that affect the implementation of specific TTA components; and the extent to which they were able to achieve planned short-term outcomes. The web-based survey will inform CDC's understanding of the reach of DP18-1805 TTA efforts; elicit information from NCCCP programs and coalitions about the TTA received, including type, dosage, frequency and format; and assess the perceptions of the effectiveness of the TTA.

CDC will use findings from the assessment to inform development of future TTA efforts to more effectively and efficiently support NCCCP's partner organizations. OMB approval is requested for three years. Participation is voluntary and respondents will not receive incentives for participation. There are no costs to respondents other than their time. The total estimated annualized burden is 51 hours.

Estimated Annualized Burden Hours
Type of respondents | Form name | Number of respondents | Number of responses per respondent | Average burden per response (in hours)
NCCCP Awardee Program Directors and Staff | Web-based survey | 88 | 1 | 15/60
NCCCP Coalition Members, and NCCCP Partners | Web-based survey | 88 | 1 | 15/60
TTA Provider Organizations | Worksheet for Identifying Case Study Interviewees | 1 | 1 | 1
TTA Provider Directors or Managers | Case Study Interview Guide for TTA Provider Program Directors or Managers | 1 | 1 | 90/60
TTA Provider Evaluators | Case Study Interview Guide for TTA Provider Evaluators | 1 | 1 | 1
TTA Provider Partners | Case Study Interview Guide for TTA Provider Partners | 3 | 1 | 1

Jeffrey M. Zirger,
Lead, Information Collection Review Office, Office of Scientific Integrity, Office of Science, Centers for Disease Control and Prevention.

[FR Doc. 2020-12807 Filed 6-12-20; 8:45 am]

BILLING CODE 4163-18-P